DEPARTMENT OF TRANSPORTATION

Federal Aviation Administration

14 CFR Part 97

[Docket No. 30466; Amdt. No. 3142]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective December 7, 2005. The compliance date for each SIAP and/or Weather Takeoff Minimums is specified in the amendatory provisions.

The incorporation by reference of certain publications listed in the regulations is approved by the Director of the Federal Register as of December 7, 2005.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on November 18, 2005.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective December 22, 2005

Mountain View, CA, Moffett Federal Afld, TACAN RWY 32R, Orig

Mountain View, CA, Moffett Federal Afld, TACAN RWY 32L, Orig

Mountain View, CA, Moffett Federal Afld, LOC/DME RWY 14L, Orig

Mountain View, CA, Moffett Federal Afld, ILS OR LOC/DME RWY 32R, Orig

Mountain View, CA, Moffett Federal Afld, Takeoff Minimums and Textual DP, Orig

Colorado Springs, CO, Colorado Springs Muni, RNAV (GPS) RWY 35R, Amdt 1

Blakely, GA, Early County, LOC/NDB RWY 23, Orig

Cartersville, GA, Cartersville, RNAV (GPS) RWY 1, Orig

Cartersville, GA, Cartersville, RNAV (GPS) RWY 19, Orig

Cartersville, GA, Cartersville, LOC RWY 19, Amdt 3

Cartersville, GA, Cartersville, NDB RWY 19, Amdt 4

Cartersville, GA, Cartersville, VOR/DME-A, Amdt 2

Peru, IL, Illinois Valley Rgnl—Walter A. Duncan Field, NDB OR GPS RWY 18, Amdt 3, CANCELLED

Covington, KY, Cincinnati Northern Kentucky International, NDB RWY 9, Amdt 15, CANCELLED

Lafayette, LA, Lafayette Regional, ILS OR LOC/DME RWY 4R, Orig

Marksville, LA, Marksville Municipal, RNAV (GPS) RWY 4, Orig-A

Hyannis, MA, Barnstable Muni-Boardman/Polando Field, ILS OR LOC RWY 15, Amdt 3

Mosby, MO, Clay County Regional, NDB RWY 18, Amdt 2

Mosby, MO, Clay County Regional, RNAV (GPS) RWY 18, Orig

Mosby, MO, Clay County Regional, GPS RWY 18, Orig-D, CANCELLED

Mosby, MO, Clay County Regional, RNAV (GPS) RWY 36, Amdt 1

Mosby, MO, Clay County Regional, Takeoff Minimums and Textual DP, Orig

Concord, NC, Concord Regional, ILS OR LOC RWY 20, Amdt 2

Wadesboro, NC, Anson County, RNAV (GPS) RWY 16, Orig

Wadesboro, NC, Anson County, RNAV (GPS) RWY 34, Orig

Wadesboro, NC, Anson County, NDB RWY 17, Amdt 2, CANCELLED

Wadesboro, NC, Anson County, GPS RWY 17, Orig, CANCELLED

Wadesboro, NC, Anson County, GPS RWY 35, Orig, CANCELLED

Wadesboro, NC, Anson County, Takeoff Minimums and Textual DP, Amdt 1

McCook, NE, McCook Regional, LOC/DME RWY 12, Orig

McCook, NE, McCook Regional, VOR RWY 30, Amdt 11

Norfolk, NE, Karl Stefan Memorial, RNAV (GPS) RWY 19, Amdt 1A

Manchester, NH, Manchester, ILS OR LOC RWY 35; ILS RWY 35 (CAT II); ILS RWY 35 (CAT III), Amdt 1

Westhampton Beach, NY, Francis S. Gabreski, ILS OR LOC RWY 24, Amdt 9

Westhampton Beach, NY, Francis S. Gabreski, COPTER ILS OR LOC RWY 24, Amdt 2

Westhampton Beach, NY, Francis S. Gabreski, RNAV (GPS) RWY 24, Amdt 1

Eugene, OR, Mahlon Sweet Field, NDB RWY 16R, Amdt 29D, CANCELLED

Conway, SC, Conway-Horry County, RNAV (GPS) RWY 22, Orig

Conway, SC, Conway-Horry County, GPS RWY 22, Orig, CANCELLED

Bristol/Johnson/Kingsport, TN, Tri-Cities Rgnl TN/VA, Takeoff Minimums and Textual DP, Amdt 6

Union City, TN, Everett-Stewart, RNAV (GPS) RWY 19, Orig

Union City, TN, Everett-Stewart, RNAV (GPS) RWY 1, Orig

Union City, TN, Everett-Stewart, NDB RWY 1, Amdt 7

La Porte, TX, La Porte Muni, RNAV (GPS) RWY 30, Amdt 1

Seattle, WA, Seattle-Tacoma Intl, ILS OR LOC RWY 16L, Amdt 2, ILS RWY 16L (CAT II)

* * * Effective January 19, 2006

Owensboro, KY, Owensboro-Daviess County, RNAV (GPS) RWY 36, Amdt 2

* * * Effective February 16, 2006

Middleton Island, AK, Middleton Island, RNAV (GPS) RWY 1, Orig

Middleton Island, AK, Middleton Island, RNAV (GPS) RWY 19, Orig

Middleton Island, AK, Middleton Island, VOR/DME RWY 19, Amdt 5

Middleton Island, AK, Middleton Island, NDB-A, Orig-A, CANCELLED

Middleton Island, AK, Middleton Island, VOR RWY 1, Amdt 2

Chicago/Aurora, IL, Aurora Muni, RNAV (GPS) RWY 9, Amdt 1

Chicago/Aurora, IL, Aurora Muni, ILS OR LOC RWY 9, Amdt 3

Indianapolis, IN, Indianapolis Intl, ILS OR LOC RWY 14, Amdt 5

Indianapolis, IN, Indianapolis Intl, ILS OR LOC RWY 5R, ILS RWY 5R (CAT II), ILS RWY 5R (CAT III), Amdt 4

Indianapolis, IN, Indianapolis Intl, ILS OR LOC RWY 23L, Amdt 4

Baton Rouge, LA, Baton Rouge Metropolitan Ryan Field, RNAV (GPS) RWY 31, Amdt 1A

St Paul, MN, St Paul Downtown Holman Fld, RNAV (GPS) RWY 14, Orig

St Paul, MN, St Paul Downtown Holman Fld, RNAV (GPS) RWY 32, Orig

St Paul, MN, St Paul Downtown Holman Fld, NDB RWY 31, Amdt 8

St Paul, MN, St Paul Downtown Holman Fld, GPS RWY 14, Orig, CANCELLED

Castroville, TX, Castroville Muni, RNAV (GPS) RWY 15, Orig-A

Appleton, WI, Outagamie County Regional, RNAV (GPS) RWY 3, Amdt 1

Appleton, WI, Outagamie County Regional, RNAV (GPS) RWY 21, Amdt 1

Appleton, WI, Outagamie County Regional, LOC BC RWY 21, Amdt 1, CANCELLED

Appleton, WI, Outagamie County Regional, VOR/DME RWY 21, Amdt 1

The FAA published an Amendment in Docket No. 30464 Amdt No. 3140 to Part 97 of the Federal Aviation Regulations (Vol. 70, FR. No. 219, page 69273, dated November 15, 2005). Under section 97.33 effective for 22 December 2005, which is hereby corrected to be effective for 24 November 2005:

Portland, ME, Portland Intl Jetport, RNAV (GPS) RWY 11, Amdt 2

The FAA published an Amendment in Docket No. 30464 Amdt No. 3140 to Part 97 of the Federal Aviation Regulations (Vol 70, FR No. 219, pages 69273 and 69274, dated November 15, 2005). Under Section 97.29 effective 22 December 2005, which is hereby corrected as follows:

Greenwood, MS, Greenwood-LeFlore, VOR/DME RNAV RWY 36, Amdt 3A, CANCELLED

Greenwood, MS, Greenwood-LeFlore, VOR/DME RNAV RWY 18, Amdt 6A, CANCELLED

[FR Doc. 05-23645 Filed 12-6-05; 8:45 am]

BILLING CODE 4910-13-P